DEPARTMENT OF HOMELAND SECURITY

U.S. Citizenship and Immigration Services

RIN 1615-AC33

DEPARTMENT OF LABOR

Employment and Training Administration

20 CFR Part 655

RIN 1205-AB91

[Docket No. ETA-2018-0003]

Modernizing Recruitment Requirements for the Temporary Employment of H-2B Foreign Workers in the United States; Extension of Comment Period

AGENCIES: U.S. Citizenship and Immigration Services, Department of Homeland Security; and Employment and Training Administration, Department of Labor.

ACTION: Notice of proposed rulemaking; extension of comment period.

SUMMARY: This document extends the period for submitting written comments on the Notice of Proposed Rulemaking (NPRM) entitled Modernizing Recruitment Requirements for the Temporary Employment of H-2B Foreign Workers in the United States. The comment period was initially scheduled to end on December 10, 2018. The Department of Homeland Security and the Department of Labor (collectively, the Departments) are taking this action to provide interested parties additional time to submit comments in response to requests for an extension of the commenting period.

DATES: The comment period for the proposed rule published on November 9, 2018, at 83 FR 55977, is extended. Comments must be received on or before December 28, 2018.

ADDRESSES: You may send comments, identified by the agencies' names and the Department of Labor (DOL)'s Docket No. ETA-2018-0003 or Regulatory Information Number (RIN) 1205-AB91, by any of the following methods:

—Federal e-Rulemaking Portal: http://www.regulations.gov. Follow the website instructions for submitting comments (under “Help” > “How to use Regulations.gov”).

—Mail and Hand Delivery/Courier: Submit written comments and any additional material to Adele Gagliardi, Administrator, Office of Policy Development and Research, U.S. Department of Labor, 200 Constitution Avenue NW, Room N-5641, Washington, DC 20210.

Instructions: All submissions must include the agencies' names and the DOL RIN 1205-AB91. Please submit your comments by only one method. Please be advised that DOL will post all comments received that relate to the notice of proposed rulemaking (NPRM) on http://www.regulations.gov without making any change to the comments or redacting any information.

The http://www.regulations.gov website is the Federal e-rulemaking portal, and all comments posted there are available and accessible to the public. Therefore, DOL recommends that commenters remove personal information (either about themselves or others) such as Social Security Numbers, personal addresses, telephone numbers, and email addresses included in their comments, as such information may become easily available to the public via the http://www.regulations.gov website. It is the responsibility of the commenter to safeguard personal information.

Also, please note that, due to security concerns, postal mail delivery in Washington, DC may be delayed. Therefore, DOL encourages the public to submit comments on http://www.regulations.gov. Docket: To read or download comments or other material in the electronic docket, go to http://www.regulations.gov website (search using RIN 1205-AB91 or Docket No. ETA-2018-0003). DOL also will make all the comments it receives available for public inspection by appointment during normal business hours at the above address. If you need assistance to review the comments, DOL will provide appropriate aids, such as readers or print magnifiers. DOL will make copies of the proposed rule available, upon request, in large print and electronic file on computer disk. To schedule an appointment to review the comments and/or obtain the proposed rule in an alternative format, contact the Office of Policy Development and Research at (202) 693-3700 (this is not a toll-free number). You may also contact Adele Gagliardi, Administrator, Office of Policy Development and Research, U.S. Department of Labor, 200 Constitution Avenue NW, Room N-5641, Washington, DC 20210.

Comments under the Paperwork Reduction Act (PRA): In addition to filing comments with ETA, persons wishing to comment on the information collection (IC) aspects of the proposed rule may send comments to: Office of Information and Regulatory Affairs, Attn: OMB Desk Officer for DOL-ETA, Office of Management and Budget, Room 10235, 725 17th Street NW, Washington, DC 20503, Fax: (202) 395-6881 (this is not a toll-free number), email: OIRA_submission@omb.eop.gov. See Paperwork Reduction Act section of the proposed rule for particular areas of interest.

FOR FURTHER INFORMATION CONTACT: Regarding the Department of Labor: Thomas M. Dowd, Deputy Assistant Secretary, Employment and Training Administration, Department of Labor, Box #12-200, 200 Constitution Ave. NW, Washington, DC 20210, telephone (202) 513-7350 (this is not a toll-free number). Regarding the Department of Homeland Security: Kevin J. Cummings, Chief, Business and Foreign Workers Division, Office of Policy and Strategy, U.S. Citizenship and Immigration Services, Department of Homeland Security, 20 Massachusetts Ave. NW, Suite 1100, Washington, DC 20529-2120, telephone (202) 272-8377 (not a toll-free call). Individuals with hearing or speech impairments may access the telephone numbers above via TTY by calling the toll-free Federal Information Relay Service at 1-877-889-5627 (TTY/TDD).

SUPPLEMENTARY INFORMATION: On November 9, 2018, the Departments published an NPRM in the Federal Register at 83 FR 55977, proposing regulatory revisions that would modernize the recruitment an employer seeking H-2B nonimmigrant workers must conduct when applying for a temporary labor certification. In particular, the Departments are proposing to replace the print newspaper advertisements that their regulations currently require with electronic advertisements posted on the internet, which the Departments believe will be a more effective and efficient means of disseminating information about job openings to U.S. workers.

The NPRM requested public comments on the proposed changes on or before December 10, 2018. The Departments have received a request to extend the comment period to allow the public to provide further input on the proposed changes. In light of the request, the Departments have extended the period for submitting public comment to December 28, 2018.

Molly E. Conway,
Acting Assistant Secretary for Employment and Training Administration, Department of Labor.
L. Francis Cissna,
Director, United States Citizenship and Immigration Services.

[FR Doc. 2018-26767 Filed 12-6-18; 4:15 pm]

BILLING CODE 4510-FP-P; 9111-97-P